DEPARTMENT OF AGRICULTURE

Rural Utilities Service

Basin Electric Power Cooperative, Inc.; Notice of Intent To Hold Public Scoping Meetings and Prepare an Environmental Impact Statement

AGENCY: Rural Utilities Service, USDA.

ACTION: Notice of Intent to Hold Public Scoping Meetings and Prepare an Environmental Impact Statement.

SUMMARY: The Rural Utilities Service (RUS) intends to hold public scoping meetings and prepare an environmental impact statement (EIS) in connection with possible impacts related to a project being proposed by Basin Electric Power Cooperative, Inc. (Basin Electric), of Bismarck, North Dakota. The proposal consists of the construction and operation of a coal-fired electric generation facility referred to as the Dry Fork Station, consisting of a single maximum net 385 Megawatt (MW) unit, at a site in Gillette, Wyoming, and the construction of 130 miles of 230 kilovolt (kV) transmission line in Campbell and Sheridan counties, referred to as the Hughes Transmission Project.

DATES: RUS will conduct the two public scoping meetings in an open-house format on December 6, 2005, from 4 p.m. to 7 p.m., at the Holiday Inn, 1809 Sugarland Drive, Sheridan, Wyoming, and on December 7, 2005, from 4 p.m. to 7 p.m., at the Clarion Western Plaza, 2009 S. Douglas Highway, Gillette, Wyoming.

FOR FURTHER INFORMATION CONTACT: Richard Fristik, Senior Environmental Protection Specialist, Water and Environmental Programs, Rural Development, Utilities Programs, 1400 Independence Ave. SW., Mail Stop 1571, Washington DC 20250-1571, telephone: (202) 720-5093 or e-mail: richard.fristik@wdc.usda.gov, or Jim K. Miller, Basin Electric Power Cooperative, Inc., 1717 East Interstate Avenue, Bismarck, ND 58503-0564, telephone: (701) 223-0441 or e-mail: jkmiller@bepc.com.

SUPPLEMENTARY INFORMATION: Basin Electric proposes to construct and operate a (maximum net rating) 385 MW (422 MW maximum gross) base load coal-fired power plant and transmission line interconnection near Gillette, Wyoming. Basin Electric proposes to construct a facility in this area due to the proximity of the fuel source in the Powder River Basin (PRB) and delivery of the power to its membership. Basin Electric is requesting RUS to provide financing for the proposed project.

The transmission line would consist of approximately 130 miles of 230kV transmission line that will connect the Hughes Substation east of Gillette, Wyoming, to the Carr Draw Substation west of Gillette and a proposed substation northeast of Sheridan, Wyoming. The proposed schedule developed by Basin Electric would place the transmission line in operation by the end of 2008, while the generating facility would be commercially operational by 2011.

Alternatives to be considered by RUS include no action, purchased power, load management, renewable energy sources, distributed generation, and alternative site locations. Comments regarding the proposed project may be submitted (orally or in writing) at the public scoping meetings or in writing within 30 days after the December 7, 2005, scoping meeting to RUS at the address provided in this notice.

Proposal development documents—Alternative Evaluation Study, Macro-Corridor Analysis and Site Selection Study—are available for public review at RUS or Basin Electric, at the addresses provided in this notice. These studies are also available at the Campbell County Public Library located at 2101 South 4J Road in Gillette, Wyoming; the Sheridan County Fulmer Public Library located at 335 W. Alger Street in Sheridan, Wyoming; the Clearmont Branch Library located at 1240 Front Street, Clearmont, Wyoming; the Moorcroft Public Library located at 105 E. Converse, Moorcroft, Wyoming; the Johnson County Library located at 171 N. Adams, Buffalo, Wyoming; the PRECorp Corporate Headquarters located at 221 Main Street, Sundance, Wyoming; and at the Basin Electric office located at 2201 South Douglas Highway, Suite 160 in Gillette, Wyoming.

From information provided in the studies mentioned above, and using input provided by government agencies, private organizations, and the public, RUS will prepare a Draft EIS. The Draft EIS will be available for review and comment for 45 days after distribution. A Final EIS will then be prepared that considers all comments received. The Final EIS will be available for review and comment for 30 days after distribution. Following the 30-day comment period, RUS will prepare a Record of Decision (ROD). Notices announcing the availability of the Draft and Final EIS and the ROD will be published in the Federal Register and in local newspapers.

Any final action by RUS related to the proposed projects will be subject to, and contingent upon, compliance with all relevant Federal, State and local environmental laws and regulations and completion of the environmental review requirements as prescribed in the RUS Environmental Policies and Procedures (7 CFR Part 1794).

Dated: November 1, 2005.
Nurul Islam,
Acting Director, Engineering and Environmental Staff.

[FR Doc. 05-22278 Filed 11-8-05; 8:45 am]

BILLING CODE 3410-15-P